DEPARTMENT OF DEFENSE

Department of the Army, Corps of Engineers

33 CFR Part 328

ENVIRONMENTAL PROTECTION AGENCY

40 CFR Parts 110, 112, 116, 117, 122, 232, 300, 302, and 401

[EPA-HQ-OW-2018-0149; FRL-9988-72-OW]

RIN 2040-AF75

Revised Definition of “Waters of the United States”

AGENCIES: Department of the Army; and Environmental Protection Agency (EPA).

ACTION: Notice of public hearing.

SUMMARY: On December 11, 2018, the Environmental Protection Agency and the U.S. Department of the Army (the agencies) signed a proposed rule revising the definition of “waters of the United States” to clarify the scope of waters federally regulated under the Clean Water Act. The agencies are announcing that a public hearing will be held in Kansas City, Kansas on January 23, 2019, to provide interested parties the opportunity to present data, views, or information concerning the proposed rule. The pre-publication version of this proposal can be found at https://www.epa.gov/wotus-rule/step-two-revise.

DATES: The agencies will hold a public hearing on Wednesday, January 23, 2019, in Kansas City, Kansas. Please refer to the SUPPLEMENTARY INFORMATION section for additional information on the public hearing.

ADDRESSES: The hearing will be held in the Wyandotte Ballroom of the Reardon Convention Center, 520 Minnesota Avenue, Kansas City, Kansas 66101. The hearing will convene at 1:00 p.m. (local time) and will conclude no later than 8:00 p.m. There will be a break from 5:00 p.m. to 6:00 p.m.

A complete set of documents related to the proposal will be available for public inspection through the Federal eRulemaking Portal: http://www.regulations.gov, Docket ID No. EPA-HQ-OW-2018-0149 once the notice of proposed rulemaking publishes in the Federal Register. Documents can also be viewed at the Environmental Protection Agency Docket Center, located at 1301 Constitution Avenue NW, Room 3334, Washington, DC between 8:30 a.m. and 4:30 p.m., Monday through Friday, excluding legal holidays. In addition, the pre-publication version of the notice of proposed rule, the economic analysis for the proposed rule, and the resource and programmatic assessment for the proposed rule are available at https://www.epa.gov/wotus-rule/step-two-revise.

If you are unable to attend the public hearing you will be able to submit your comments, identified by Docket ID No. EPA-HQ-OW-2018-0149, to the Federal eRulemaking Portal: http://www.regulations.gov (our preferred method). Follow the online instructions for submitting comments. All submissions received must include the Docket ID No. for this rulemaking. Comments received may be posted without change to https://www.regulations.gov/, including any personal information provided. For additional information on the public hearing, see the “Public Participation” heading of the SUPPLEMENTARY INFORMATION section of this document.

FOR FURTHER INFORMATION CONTACT: Ms. Damaris Christensen, Office of Water (4504-T), Environmental Protection Agency, 1200 Pennsylvania Avenue NW, Washington, DC 20460; telephone number: (202) 566-2428; email address: WOTUS-outreach@epa.gov; or Ms. Cindy Barger, Office of the Assistant Secretary of the Army for Civil Works, 441 G Street NW, Washington, DC 20014; telephone number: (202) 761-0038.

SUPPLEMENTARY INFORMATION:

I. Background

On December 11, 2018, the agencies signed a proposed rule defining the scope of waters federally regulated under the Clean Water Act, in light of the U.S. Supreme Court cases in United States v. Riverside Bayview Homes, Solid Waste Agency of Northern Cook County v. United States, and Rapanos v. United States, and consistent with Executive Order 13778, signed on February 28, 2017, entitled “Restoring the Rule of Law, Federalism, and Economic Growth by Reviewing the `Waters of the United States' Rule.” The agencies are holding a public hearing in Kansas City, Kansas on January 23, 2019, to provide interested parties the opportunity to present data, views, or information concerning the proposed rule. The agencies have submitted the proposed rule to the Office of the Federal Register, and it will be published separately in the Federal Register. The comment period on the proposed action will end 60 days after the notice of proposed rulemaking publishes in the Federal Register. The pre-publication version of the proposed rule can be found at https://www.epa.gov/wotus-rule/step-two-revise and will be replaced with the official version of the notice after it publishes.

II. Public Participation

A. Participation in Public Hearing

The public is invited to speak during the public hearing on January 23, 2019. The agencies will begin pre-registering speakers for the hearing upon signature of this document. Those interested in speaking at the hearing can sign up for a three-minute speaking slot within an identified 45-minute timeframe. To register to speak at the hearing, please use the online registration form available at https://www.epa.gov/wotus-rule/proposed-revised-definition-wotus-public-hearing. The last day to pre-register to speak at the hearing will be January 17, 2019. On January 22, 2019, the agencies will post a general agenda for the hearing that will list pre-registered speakers in approximate order at: https://www.epa.gov/wotus-rule/proposed-revised-definition-wotus-public-hearing.

The agencies will make every effort to follow the schedule as closely as possible on the day of the hearing; however, please plan for the hearings to run either ahead of schedule or behind schedule. Additionally, requests to speak will be taken the day of the hearing at the hearing registration desk. The agencies will make every effort to accommodate all speakers who arrive and register, although preferences on speaking times may not be available.

Each commenter will have three minutes to provide oral testimony. The agencies encourage commenters to provide the agencies with a copy of their oral testimony electronically (via email) or in hard copy form.

The agencies may ask clarifying questions during the oral presentations but will not respond to the presentations at that time. Written statements and supporting information submitted during the comment period will be considered with the same weight as oral comments and supporting information presented at the public hearing. Written comments must be received by the last day of the comment period, as specified in the notice of proposed rulemaking. Verbatim transcripts of the hearing and written statements will be included in the docket for the rulemaking.

Please note that any updates made to any aspect of the hearing will be posted online at https://www.epa.gov/wotus-rule/proposed-revised-definition-wotus-public-hearing. While the agencies expect the hearing to go forward as set forth above, please monitor our website for any updates. The agencies do not intend to publish a document in the Federal Register announcing updates.

The agencies will not provide audiovisual equipment for presentations. Any media presentations should be submitted to the public docket at https://www.regulations.gov/, identified by Docket ID No. EPA-HQ-OW-2018-0149. If you require the service of a translator or special accommodations such as audio description, please pre-register for the hearing and describe your needs by January 17, 2019. We may not be able to arrange accommodations without advanced notice.

Dated: December 20, 2018.
John T. Goodin,
Director, Office of Wetlands, Oceans and Watersheds, Office of Water, Environmental Protection Agency.
Dated: December 20, 2018.
Ryan A. Fisher,
Principal Deputy Assistant Secretary of the Army (Civil Works), Department of the Army.

[FR Doc. 2018-28296 Filed 12-27-18; 8:45 am]

BILLING CODE 6560-50-P